DEPARTMENT OF HOMELAND SECURITY

Federal Emergency Management Agency

[Docket ID FEMA-2010-0063]

Recovery Policy RP9524.2, Landslides and Slope Stability Related to Public Facilities

AGENCY: Federal Emergency Management Agency, DHS.

ACTION: Notice of availability.

SUMMARY: This document provides notice of the final Recovery Policy RP9524.2, Landslides and Slope Stability Related to Public Facilities, which is being issued by the Federal Emergency Management Agency (FEMA).

DATES: This policy is effective October 8, 2010.

ADDRESSES: This final policy is available online at http://www.regulations.gov under docket ID FEMA-2010-0063 and on FEMA's Web site at http://www.fema.gov. You may also view a hard copy of the final policy at the Office of Chief Counsel, Federal Emergency Management Agency, Room 835, 500 C Street, SW., Washington, DC 20472-3100.

FOR FURTHER INFORMATION CONTACT: Byron Mason, Federal Emergency Management Agency, 500 C Street, SW., Washington, DC 20472, phone 202-646-4368, e-mail Byron.Mason@dhs.gov.

SUPPLEMENTARY INFORMATION: This policy determines the eligibility of emergency work to protect eligible facilities threatened by landslides or slope failures; as well as the eligibility of permanent repairs to eligible facilities damaged by landslides or slopes that failed during an event that resulted in a Presidentially-declared emergency or major disaster.

Authority: 42 U.S.C. 5121-5207.

Robert Farmer,
Deputy Director, Office of Policy and Program Analysis, Federal Emergency Management Agency.

[FR Doc. 2010-26703 Filed 10-21-10; 8:45 am]

BILLING CODE 9111-23-P